DEPARTMENT OF TRANSPORTATION

Federal Aviation Administration

14 CFR Part 39

[Docket No. FAA-2017-0125; Directorate Identifier 2016-NM-193-AD; Amendment 39-18946; AD 2017-14-02]

RIN 2120-AA64

Airworthiness Directives; Bombardier, Inc., Airplanes

AGENCY: Federal Aviation Administration (FAA), Department of Transportation (DOT).

ACTION: Final rule.

SUMMARY: We are adopting a new airworthiness directive (AD) for certain Bombardier, Inc., Model DHC-8-401 and DHC-8-402 airplanes. This AD was prompted by a report that a pilot was unable to move the rudder pedal due to an obstruction. This AD requires an inspection to determine if wiring shrouds are present, and modifying the wiring shrouds if necessary. We are issuing this AD to address the unsafe condition on these products.

DATES: This AD is effective August 10, 2017.

The Director of the Federal Register approved the incorporation by reference of a certain publication listed in this AD as of August 10, 2017.

ADDRESSES: For service information identified in this final rule, contact Bombardier, Inc., Q-Series Technical Help Desk, 123 Garratt Boulevard, Toronto, Ontario M3K 1Y5, Canada; telephone 416-375-4000; fax 416-375-4539; email thd.qseries@aero.bombardier.com; Internet http://www.bombardier.com. You may view this referenced service information at the FAA, Transport Airplane Directorate, 1601 Lind Avenue SW., Renton, WA. For information on the availability of this material at the FAA, call 425-227-1221. It is also available on the Internet at http://www.regulations.gov by searching for and locating Docket No. FAA-2017-0125.

Examining the AD Docket

You may examine the AD docket on the Internet at http://www.regulations.gov by searching for and locating Docket No. FAA-2017-0125; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Cesar Gomez, Aerospace Engineer, Airframe and Mechanical Systems Branch, ANE-171, FAA, New York Aircraft Certification Office (ACO), 1600 Stewart Avenue, Suite 410, Westbury, NY 11590; telephone: 516-228-7318; fax: 516-794-5531.

SUPPLEMENTARY INFORMATION:

Discussion

We issued a notice of proposed rulemaking (NPRM) to amend 14 CFR part 39 by adding an AD that would apply to certain Bombardier, Inc., Model DHC-8-401 and DHC-8-402 airplanes. The NPRM published in the Federal Register on March 2, 2017 (82 FR 12301). The NPRM was prompted by a report that a pilot was unable to move the rudder pedal due to an obstruction. The NPRM proposed to require an inspection to determine if wiring shrouds are present, and modifying the wiring shrouds if necessary. We are issuing this AD to prevent an obstruction that could prevent rudder pedal movement during critical phases of flight or ground operations, potentially resulting in loss of control of the airplane.

Transport Canada Civil Aviation (TCCA), which is the aviation authority for Canada, has issued Canadian AD CF-2016-27, dated September 14, 2016 (referred to after this as the Mandatory Continuing Airworthiness Information, or “the MCAI”), to correct an unsafe condition for certain Bombardier, Inc., Model DHC-8-401 and DHC-8-402 airplanes. The MCAI states:

An operator reported that the flying pilot was unable to move the rudder pedal due to an obstruction caused by the non-flying pilot's foot. The shoe belonging to the non-flying pilot was placed between the rudder pedal and the newly installed wiring shroud and prevented rudder pedal movement. The wiring shroud was installed to support the wire harnesses installed below the cockpit instrument panel.

If not corrected, this condition could prevent rudder movement during critical phases of flight or ground operation, and result in loss of control of the aeroplane.

This [Canadian] AD was issued to re-work the wiring shrouds to eliminate potential for obstruction.

You may examine the MCAI in the AD docket on the Internet at http://www.regulations.gov by searching for and locating Docket No. FAA-2017-0125.

Comments

We gave the public the opportunity to participate in developing this AD. The following presents the comments received on the NPRM and the FAA's response to each comment.

Support for the NPRM

The Air Line Pilots Association, International, stated that it supports the NPRM.

Request To Refer to Updated Service Information and Provide Credit

Horizon Air requested that we revise the proposed AD to refer to the newest version of the service information, Bombardier Service Bulletin 84-25-169, Revision B, dated February 17, 2017. Horizon Air also asked that we provide credit for previous actions done using Bombardier Service Bulletin 84-25-169, Revision A, dated April 25, 2016.

We agree with the commenter's requests. We have determined that the new service information does not require any additional actions for airplanes modified using Revision A. We have revised this AD to refer to Bombardier Service Bulletin 84-25-169, Revision B, dated February 17, 2017. We have also added paragraph (h) to this AD to provide credit for previous actions and redesignated subsequent paragraphs accordingly.

Request To Reference Only the Actions Required for Compliance

Horizon Air requested that we revise the requirements of the proposed AD to mandate only the actions in paragraph 3.B., “Procedure” of the Accomplishment Instructions of Bombardier Service Bulletin 84-25-169, Revision B, dated February 17, 2017, rather than the entire Accomplishment Instructions. Horizon Air explained that requiring the job set-up and close-out sections of the service information restricts an operator's ability to perform other maintenance at the same time as incorporating the service information.

We agree with the commenter's request because it provides operators additional flexibility, while still ensuring the unsafe condition is corrected. We have revised paragraph (g) of this AD accordingly.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Bombardier Service Bulletin 84-25-169, Revision B, dated February 17, 2017. This service information describes procedures for an inspection to verify if wiring shrouds are installed, and modification of any existing wiring shrouds. This service information is reasonably available because the interested parties have access to it through their normal course of business or by the means identified in the ADDRESSES section.

Costs of Compliance

We estimate that this AD affects 82 airplanes of U.S. registry.

We estimate the following costs to comply with this AD:

Estimated Costs
Action | Labor cost | Parts cost | Cost per product | Cost on U.S. operators
Inspection | 1 work-hour × $85 per hour = $85 | $0 | $85 | $6,970

We estimate the following costs to do any necessary modifications that would be required based on the results of the inspection. We have no way of determining the number of aircraft that might need these modifications:

On-Condition Costs
Action | Labor cost | Parts cost | Cost per product
Modification of wiring shrouds | 7 work-hours × $85 per hour = $595 | $71 | $666

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-14-02 Bombardier, Inc.: Amendment 39-18946; Docket No. FAA-2017-0125; Directorate Identifier 2016-NM-193-AD.

(a) Effective Date

This AD is effective August 10, 2017.

(b) Affected ADs

None.

(c) Applicability

This AD applies to Bombardier, Inc., Model DHC-8-401 and DHC-8-402 airplanes, certificated in any category, as identified in Bombardier Service Bulletin 84-25-169, Revision B, dated February 17, 2017.

(d) Subject

Air Transport Association (ATA) of America Code 25, Equipment/furnishings.

(e) Reason

This AD was prompted by a report that a pilot was unable to move the rudder pedal due to an obstruction caused by the non-flying pilot's foot. We are issuing this AD to prevent an obstruction that could prevent rudder pedal movement during critical phases of flight or ground operations, potentially resulting in loss of control of the airplane.

(f) Compliance

Comply with this AD within the compliance times specified, unless already done.

(g) Inspection and Modification of Wiring Shrouds

Within 6 months after the effective date of this AD, do a one-time inspection to determine if wiring shrouds are installed, in accordance with paragraph 3.B., “Procedure,” of the Accomplishment Instructions of Bombardier Service Bulletin 84-25-169, Revision B, dated February 17, 2017.

(1) If the airplane does not have wiring shrouds installed, no further action is required by this AD.

(2) If the airplane has wiring shrouds installed, before further flight, modify the wiring shrouds in accordance with paragraph 3.B., “Procedure,” of the Accomplishment Instructions of Bombardier Service Bulletin 84-25-169, Revision B, dated February 17, 2017.

Note 1 to paragraph (g) of this AD: Installation of wiring shrouds was provided in Bombardier Modification Summary Package (ModSum) IS4Q2500035-1, Revision A, dated July 26, 2011; Revision B, dated October 10, 2013; Revision C, dated March 26, 2014; or Revision D, dated February 26, 2016; or ModSum IS4Q2500035-2, Revision A, dated July 26, 2011; Revision B, dated October 10, 2013; Revision C, dated March 26, 2014; or Revision D, dated February 26, 2016.

(h) Credit for Previous Actions

This paragraph provides credit for actions required by paragraph (g) of this AD, if those actions were performed before the effective date of this AD using Bombardier Service Bulletin 84-25-169, Revision A, dated April 25, 2016.

(i) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the manager of the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO, ANE-170, FAA; or Transport Canada Civil Aviation (TCCA); or Bombardier, Inc.'s TCCA Design Approval Organization (DAO). If approved by the DAO, the approval must include the DAO-authorized signature.

(j) Related Information

(1) Refer to Mandatory Continuing Airworthiness Information (MCAI) Canadian AD CF-2016-27, dated September 14, 2016, for related information. This MCAI may be found in the AD docket on the Internet at http://www.regulations.gov by searching for and locating Docket No. FAA-2017-0125.

(2) For more information about this AD, contact Cesar Gomez, Aerospace Engineer, Airframe and Mechanical Systems Branch, ANE-171, FAA, New York ACO, 1600 Stewart Avenue, Suite 410, Westbury, NY 11590; telephone: 516-228-7318; fax: 516-794-5531.

(3) Service information identified in this AD that is not incorporated by reference is available at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 84-25-169, Revision B, dated February 17, 2017.

(ii) Reserved.

(3) For service information identified in this AD, contact Bombardier, Inc., Q-Series Technical Help Desk, 123 Garratt Boulevard, Toronto, Ontario M3K 1Y5, Canada; telephone 416-375-4000; fax 416-375-4539; email thd.qseries@aero.bombardier.com; Internet http://www.bombardier.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 23, 2017.
Chris Spangenberg,
Acting Manager, Transport Airplane Directorate, Aircraft Certification Service.

[FR Doc. 2017-13950 Filed 7-5-17; 8:45 am]

BILLING CODE 4910-13-P